DEPARTMENT OF COMMERCE

International Trade Administration

[A-549-822]

Notice of Final Results of Antidumping Duty Changed Circumstances Review: Certain Frozen Warmwater Shrimp From Thailand

AGENCY: Enforcement and Compliance, International Trade Administration, Department of Commerce.

SUMMARY: On November 25, 2015, the Department of Commerce (the Department) initiated a changed circumstances review and published a notice of preliminary results of changed circumstances review of the antidumping duty order on certain frozen warmwater shrimp (shrimp) from Thailand.¹ In that notice, we preliminarily determined that Thai Union Group Public Co., Ltd. (Thai Union Group) is the successor-in-interest to Thai Union Frozen Products Public Co., Ltd. (Thai Union Frozen) for purposes of determining antidumping duty cash deposits and liabilities. No interested party submitted comments on, or requested a public hearing to discuss, the Initiation and Preliminary Results. For these final results, the Department continues to find that Thai Union Group is the successor-in-interest to Thai Union Frozen.

¹ See Notice of Initiation and Preliminary Results of Antidumping Duty Changed Circumstances Review: Certain Frozen Warmwater Shrimp from Thailand, 80 FR 73726 (November 25, 2015) (Initiation and Preliminary Results).

DATES: Effective Date: January 5, 2016.

FOR FURTHER INFORMATION CONTACT: Dennis McClure or Elizabeth Eastwood, AD/CVD Operations, Office II, Enforcement and Compliance, International Trade Administration, U.S. Department of Commerce, 14th Street and Constitution Avenue NW., Washington, DC 20230; telephone: (202) 482-5973 or (202) 482-3874, respectively.

SUPPLEMENTARY INFORMATION:

Background

On September 17, 2015, Thai Union Group, a producer/exporter of Thai shrimp covered by this order, changed its name from Thai Union Frozen to Thai Union Group. On October 5, 2015, Thai Union Group requested that the Department conduct an expedited changed circumstances review under section 751(b) of the Act, 19 CFR 351.216(c), and 19 CFR 351.221(c)(3)(ii) to confirm that Thai Union Group is the successor-in-interest to Thai Union Frozen for purposes of determining antidumping duty cash deposits and liabilities. On November 25, 2015, the Department initiated this changed circumstances review and published the notice of preliminary results, determining that Thai Union Group is the successor-in-interest to Thai Union Frozen.² In the Initiation and Preliminary Results, we provided all interested parties with an opportunity to comment or request a public hearing regarding our preliminary finding that Thai Union Group is the successor-in-interest to Thai Union Frozen. We received no comments or requests for a public hearing from interested parties within the time period set forth in the Initiation and Preliminary Results.

² Id., 80 FR at 73728.

Scope of the Order

The merchandise subject to the order is certain frozen warmwater shrimp.³ The product is currently classified under the following Harmonized Tariff Schedule of the United States (HTSUS) item numbers: 0306.17.0003, 0306.17.0006, 0306.17.0009, 0306.17.0012, 0306.17.0015, 0306.17.0018, 0306.17.0021, 0306.17.0024, 0306.17.0027, 0306.17.0040, 1605.21.1030, and 1605.29.1010. Although the HTSUS numbers are provided for convenience and customs purposes, the written product description remains dispositive.

³ For a complete description of the scope of the order, see Initiation and Preliminary Results.

Final Results of Changed Circumstances Review

For the reasons stated in the Initiation and Preliminary Results, and because we received no comments from interested parties to the contrary, the Department continues to find that Thai Union Group is the successor-in-interest to Thai Union Frozen. As a result of this determination, we find that Thai Union Group should receive the cash deposit rate previously assigned to Thai Union Frozen in the most recently completed review of the antidumping duty order on shrimp from Thailand.⁴ Consequently, the Department will instruct U.S. Customs and Border Protection to suspend liquidation of all shipments of subject merchandise produced or exported by Thai Union Group and entered, or withdrawn from warehouse, for consumption on or after the publication date of this notice in the Federal Register at 1.10 percent, which is the current antidumping duty cash-deposit rate for the Thai Union group of companies, of which Thai Union Frozen (and now Thai Union Group) is a part.⁵ ⁶ This cash deposit requirement shall remain in effect until further notice.

⁴ See, e.g., Final Results of Antidumping Duty Changed Circumstances Review: Certain Circular Welded Non-Alloy Steel Pipe and Tube from Mexico, 74 FR 41681, 41682 (August 18, 2009).

⁵ This group now consists of Thai Union Group, Thai Union Seafood Co., Ltd., Pakfood Public Company Limited, Okeanos Co. Ltd., Okeanos Food Co., Ltd, Asia Pacific (Thailand) Co., Ltd., Chaophraya Cold Storage Co. Ltd., and Takzin Samut Co. Ltd. (collectively, “Thai Union”).

⁶ Thai Union Frozen received a 1.10 percent dumping margin as part of Thai Union in the 2012-2013 administrative review of the AD order on shrimp from Thailand. See Certain Frozen Warmwater Shrimp From Thailand: Final Results of Antidumping Duty Administrative Review, Final Determination of No Shipments, and Partial Rescission of Review; 2012-2013, 79 FR 51306 (August 28, 2014) (corrected by Certain Frozen Warmwater Shrimp From Thailand: Notice of Correction to the Final Results of the 2012-2013 Antidumping Duty Administrative Review, 79 FR 62099 (October 16, 2014)). We note that Thai Union Frozen is also a respondent in the current 2014-2015 administrative review of this antidumping duty order. See Certain Frozen Warmwater Shrimp from India and Thailand: Notice of Initiation of Antidumping Duty Administrative Reviews, 80 FR 16634 (March 30, 2015). Because we determined that Thai Union Group is the successor-in-interest to Thai Union Frozen, we will assign Thai Union Group an updated cash deposit rate based on the final results of that administrative review.

We are issuing this determination and publishing these final results and notice in accordance with sections 751(b)(1) and 777(i)(1) and (2) of the Tariff Act of 1930, as amended, and 19 CFR 351.216 and 351.221(c)(3).

Dated: December 24, 2015.
Paul Piquado,
Assistant Secretary for Enforcement and Compliance.

[FR Doc. 2015-33161 Filed 1-4-16; 8:45 am]

BILLING CODE 3510-DS-P